DEPARTMENT OF EDUCATION

34 CFR Chapter III

[Docket ID ED-2016-OSERS-0018; CFDA Number: 84.160D.]

Proposed Priority—Training of Interpreters for Individuals Who Are Deaf or Hard of Hearing and Individuals Who Are Deaf-Blind Program

AGENCY: Office of Special Education and Rehabilitative Services, Department of Education.

ACTION: Proposed priority.

SUMMARY: The Assistant Secretary for Special Education and Rehabilitative Services announces a priority under the Training of Interpreters for Individuals Who Are Deaf or Hard of Hearing and Individuals Who Are Deaf-Blind program. The Assistant Secretary may use this priority for competitions in fiscal year 2016 and later years. We take this action to provide training to working interpreters in order to develop a new skill area or enhance an existing skill area.

DATES: We must receive your comments on or before June 6, 2016.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “Help” tab.

• Postal Mail, Commercial Delivery, or Hand Delivery: If you mail or deliver your comments about these proposed regulations, address them to Kristen Rhinehart-Fernandez, U.S. Department of Education, 400 Maryland Avenue SW., Room 5062, Potomac Center Plaza (PCP), Washington, DC 20202-5076.

Privacy Note: The Department's policy is to make all comments received from members of the public available for public viewing in their entirety on the Federal eRulemaking Portal at www.regulations.gov. Therefore, commenters should be careful to include in their comments only information that they wish to make publicly available.

FOR FURTHER INFORMATION CONTACT: Kristen Rhinehart-Fernandez. Telephone: (202) 245-6103 or by email: Kristen.Rhinehart@ed.gov.

If you use a telecommunications device for the deaf (TDD) or a text telephone (TTY), call the Federal Relay Service (FRS), toll free, at 1-800-877-8339.

SUPPLEMENTARY INFORMATION:

Invitation to Comment: We invite you to submit comments regarding this notice. To ensure that your comments have maximum effect in developing the notice of final priority, we urge you to identify clearly the specific section of the proposed priority that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about these proposed regulations by accessing Regulations.gov. You may also inspect the comments in person in Room 5040, 550 12th Street SW., PCP, Washington, DC 20202-5076, between the hours of 8:30 a.m. and 4:00 p.m., Washington, DC time, Monday through Friday of each week except Federal holidays. Please contact the person listed under FOR FURTHER INFORMATION CONTACT.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: Under the Rehabilitation Act of 1973 (Rehabilitation Act), as amended by the Workforce Innovation and Opportunity Act (WIOA), the Rehabilitation Services Administration (RSA) makes grants to public and private nonprofit agencies and organizations, including institutions of higher education, to establish interpreter training programs or to provide financial assistance for ongoing interpreter programs to train a sufficient number of qualified interpreters throughout the country. The grants are designed to train interpreters to effectively interpret and transliterate using spoken, visual, and tactile modes of communication; ensure the maintenance of the interpreting skills of qualified interpreters; and provide opportunities for interpreters to raise their skill level competence in order to meet the highest standards approved by certifying associations and to effectively meet the communication needs of individuals who are deaf or hard of hearing and individuals who are deaf-blind.

Program Authority: 29 U.S.C. 709(c) and 772(a) and (f).

Applicable Program Regulations: 34 CFR part 396.

PROPOSED PRIORITY: This notice contains one proposed priority.

Interpreter Training in Specialized Areas

Background

Over the past 20 years, the fields of interpreting and interpreter training have changed significantly in order to effectively respond to the evolving needs of children and adults in the United States who are deaf,¹ including consumers of the Vocational Rehabilitation (VR) system. These changes bring with them an array of unfamiliar communication challenges for interpreters, which are driving the need for new training and development priorities (Schafer and Cokely, 2016). Interpreters are increasingly providing services to deaf individuals with idiosyncratic and dysfluent language; being called upon to be fluent in English, ASL, and one other language in order to provide trilingual interpretation; and providing services to deaf individuals in highly specialized academic and employment settings (Schafer and Cokely, 2016).

¹ As used in this notice, the word “deaf” refers to (1) “deaf” and “Deaf” people, i.e., to the condition of deafness; (2) “deaf, hard of hearing, and Deaf-Blind;” and (3) individuals who are culturally Deaf and who use American Sign Language (ASL). “Deaf” refers only to the third group.

In 2016, the National Interpreter Education Center (NIEC) released a report based on information and input collected over current and previous grant cycles through needs assessments, national surveys, and survey software platforms. A practitioner survey was conducted in 2014 to gather data from interpreters on their experiences in interpreting for consumers who are deaf and hard of hearing. One question on the survey asked interpreters whether they have served an increased number of deaf individuals with idiosyncratic language. Overall, 24 percent of respondents reported an increase in the number of individuals with idiosyncratic language served, and 38 percent of respondents reported the numbers of individuals with idiosyncratic sign language have “remained the same.” This trend dates back more than five years (Schafer and Cokely, 2016). The 2014 Practitioner survey also illustrates a growing demand for trilingual interpreting services. In that survey, 68 percent of respondents reported a need for third language fluency (Schafer and Cokely, 2016).

The data from the 2014 Practitioner Survey was substantiated by data from the 2015 National Interpreter Education Center Trends Survey. In the Trends survey, 66 percent of service provider respondents reported an increase in the number of deaf individuals from a household with a foreign spoken language, and 35 percent of respondents reported an increase in the number of deaf individuals using a foreign signed language (Schafer and Cokely, 2016).

The 2015 Trends Survey also indicates that Federal legislation mandating communication access may have begun to pay off, creating more opportunities for deaf individuals to pursue postsecondary and graduate level education and specialized training. As a result, individuals who are deaf and hard of hearing are obtaining jobs in law, medicine, engineering, higher education, and high tech industries in greater numbers. The Trends Survey documented 47 percent of service providers reporting the number of deaf individuals pursuing education or employment in specialized fields increasing (Schafer and Cokely, 2016).

The data from the 2014 Practitioner Survey and 2015 Trends Survey give support to the conclusion that interpreters must be able to understand and communicate proficiently using technical vocabulary and highly specialized discourse in a variety of complex subject matters in both ASL and English. Interpreters must also be prepared to meet the communication needs of individuals who are “Deaf Plus” ² with dysfluent first language skills, who pose many challenges for interpreters who do not have superior proficiency in ASL or a ready arsenal of communication strategies (Schafer and Cokely, 2016).

² The term “Deaf Plus” refers to an individual who is deaf or hard of hearing in addition to having other medical, physical, emotional, cognitive, educational, or social challenges (Schafer and Cokely, page 5).

Training, even for qualified interpreters, is needed in all of these specialized areas to build a workforce that is reflective of the population it serves and equipped to meet a variety of extremely diverse communication needs. To address this problem, the Assistant Secretary proposes a priority to establish projects to train interpreters in specialized areas.

Apart from this, generally, the pool of qualified interpreters is insufficient to meet the needs of deaf consumers in the United States. For this reason, we are publishing a proposed priority elsewhere in the Federal Register to establish a national model demonstration center to better prepare novice interpreters to become nationally certified sign language interpreters.

References

Schafer, Trudy, MPA. MIP, Center Director, and Cokely, Dennis, Ph.D., Principle Investigator, “Report on the National Needs Assessment Initiative New Challenges-Needed Challenges” (National Interpreter Education Center at Northeastern University) (March 2016).

Proposed Priority

The purpose of this priority is to fund projects that provide training for English-American Sign Language (ASL) interpreter training in specialized areas. The training must be provided to working interpreters (e.g., interpreters with a baccalaureate degree in ASL-English who possess a minimum of three years of relevant experience as an interpreter) who need to develop a new skill area or enhance an existing skill area. Within this proposed priority, the Assistant Secretary intends to fund training in the following specialty areas: (1) Interpreting for consumers with dysfluent language competencies (e.g., individuals who use idiosyncratic signs or display limited first language competency in either spoken or sign language, due to delayed acquisition of the first language); (2) trilingual interpreting (e.g., language fluency in first, second, and third languages with one of the three languages being ASL); and (3) field-initiated topics.

During the project, applicants must develop and deliver training of sufficient scope, intensity, and duration for working interpreters to achieve increased skill, knowledge, and competence in a specialty area. Applicants may develop a new training program or stand-alone modules that could also be incorporated into an existing baccalaureate degree ASL-English program. The training program or modules must be developed by the end of the first year of the project period and delivered in years two, three, four, and five of the project period.

The projects must be designed to achieve, at a minimum, the following outcomes:

(a) An increase in the number of interpreters who are trained to work with deaf consumers who require specialized interpreting; and

(b) An increase in the number of interpreters trained in specialty areas who obtain or advance in employment in the areas for which they were prepared.

To be considered for funding, applicants must meet the requirements contained in this proposed priority, which are as follows:

(a) Demonstrate, in the narrative section of the application under “Significance of the Project,” how the proposed project will address the need for sign language interpreters in a specialized area. To address this requirement, applicants must:

(1) Present applicable data demonstrating the need for interpreters in the specialty area for which training will be developed by the project in at least three distinct, noncontiguous geographic areas, which may include the U.S. Territories;

(2) Explain how the project will increase the number of working interpreters in a specialty area who demonstrate the necessary competencies to meet the communication needs of individuals who are deaf, hard of hearing, or deaf-blind. To meet this requirement, the applicant must—

(i) Identify competencies working interpreters must demonstrate in order to provide high-quality services in the identified specialty area using practices that are promising or based on instruction supported by evidence and intervention, when available; and

(ii) Demonstrate that the identified competencies are based on practices that are promising or supported by evidence that will result in effectively meeting the communication needs of individuals who are deaf, hard of hearing, or deaf-blind.

(b) Demonstrate, in the narrative section of the application under “Quality of Project Design,” how the proposed project will—

(1) Provide training in person or remotely to at least three distinct, noncontiguous geographic areas identified in paragraph (a)(1);

(2) Identify and partner with trainers who are certified and recognized in the specialty area through formal or informal certification to develop and deliver the training. If certification is not available in the specialty area, provide evidence of relevant training and experience (e.g., provide a portfolio that includes training verification, video samples, letters of support from consumers and employers, etc.);

(3) Be based on current research and make use of practices that are promising or supported by evidence. To meet this requirement, the applicant must describe—

(i) How the proposed project will incorporate current research and practices that are promising or supported by evidence in the development and delivery of its products and services;

(ii) How the proposed project will engage working interpreters with different learning styles; and

(iii) How the proposed project will ensure working interpreters interact with deaf individuals who have a range of communication skills, from those with limited language skills to those with high-level, professional language skills.

(c) In the narrative section of the application under “Quality of Project Services,” the applicant must—

(1) Demonstrate how the project will ensure equal access and treatment for eligible project participants who are members of groups who have traditionally been underrepresented based on race, color, national origin, gender, age, or disability;

(2) Describe the criteria that will be used to identify high-quality applicants for participation in the program, including any pre-assessments that may be used to determine the skill, knowledge base, and competence of the working interpreter;

(3) Describe the recruitment strategies the project will use to attract high-quality working interpreters, including specific strategies targeting high-quality participants from traditionally underrepresented groups (e.g., individuals with disabilities and individuals living in remote areas);

(4) Describe how the project will ensure that all training activities and materials are fully accessible;

(5) Describe the approach that will be used to enable more working interpreters to participate in and successfully complete the training program, specifically participants who need to work while in the program, have child care or elder care considerations, or live in geographically isolated areas. The approach must emphasize innovative instructional delivery methods, such as distance learning or block scheduling (a type of academic scheduling that offers students fewer classes per day for longer periods of time), which would allow working interpreters to more easily participate in the program;

(6) Describe the approach that will be used to enable working interpreters to successfully complete the program or stand-alone modules, to include mentoring, monitoring, and accommodation support services;

(7) Describe how the project will incorporate practices that are promising and supported by evidence for adult learners;

(8) Demonstrate how the project is of sufficient scope, intensity, and duration to adequately prepare working interpreters in the identified specialty area of training. To address this requirement, the applicant must describe how—

(i) The components of the proposed project will support working interpreters' acquisition and enhancement of the competencies identified in paragraph (a)(2)(i);

(ii) The components of the project will allow working interpreters to apply their content knowledge in a practical setting;

(iii) The proposed project will provide working interpreters with ongoing guidance and feedback; and

(iv) The proposed project will provide ongoing induction opportunities and support working interpreters after completion of the specialty area program.

(9) Demonstrate how the proposed project will actively engage representation from consumers, consumer organizations, and service providers, especially vocational rehabilitation (VR) agencies, interpreters, interpreter training programs, and individuals who are deaf and deaf-blind in the project, including project development, design, implementation, delivery of training, dissemination, sustainability planning, program evaluation, and other relevant areas as determined by the applicant;

(10) Describe how the project will conduct dissemination and coordination activities. To meet this requirement, the applicant must—

(i) Describe its plan for disseminating information to and coordinating with VR agencies, American Job Centers and other workforce partners regarding finding interpreters with the specialized interpreting skills needed; disseminating information to working interpreters about training available in the specialized area, and broadly disseminating successful strategies for preparing working interpreters in a specialized area;

(ii) Describe its strategy for disseminating products developed during the project period. To meet this requirement the applicant must—

(A) Develop and maintain a state-of-the-art archiving and dissemination system that is open and available to the public and provides a central location for later use of training materials, including curricula, audiovisual materials, Webinars, examples of emerging and promising practices, and any other relevant material;

(B) Provide a minimum of three Webinars or video conferences over the course of the project. Applicants may determine the audience, content, and goals of this activity. For instance, applicants may consider disseminating information to working interpreters not enrolled in the program about training in a specialty area, as well as interacting with interpreter educators about the curriculum or training module design, challenges, solutions, and results achieved.

Note: All products produced by the grantees must meet government- and industry-recognized standards for accessibility, including section 508 of the Rehabilitation Act.

(iii) Describe its approach for incorporating the use of information technology (IT) into all aspects of the project. The approach must include establishing and maintaining a state-of-the-art IT platform that is sufficient to support Webinars, teleconferences, video conferences, and other virtual methods of dissemination of information.

Note: In meeting the requirements mentioned in paragraphs (c)(10)(ii)(A) and (B) and (c)(10)(iii) above, projects may either develop new platforms or systems or may modify existing platforms or systems, so long as the requirements of this priority are met.

(iv) Describe its approach for conducting coordination and collaboration activities. To meet this requirement, the applicant must—

(A) Establish a community of practice ³ in the specialty area of training that focuses on project activities in this priority and acts as a vehicle for communication and exchange of information among participants in the program and other relevant stakeholders;

³ A community of practice (CoP) is a group of people who work together to solve a persistent problem or to improve practice in an area that is important to them and who deepen their knowledge and expertise by interacting on an ongoing basis. CoPs exist in many forms, some large in scale that deal with complex problems, others small in scale that focus on a problem at a very specific level. For more information on communities of practice, see: www.tadnet.org/pages/510.

(B) Communicate, collaborate, and coordinate with other relevant Department-funded projects, as applicable;

(C) Maintain ongoing communication with the RSA project officer and other RSA staff as required; and

(D) Communicate, collaborate, and coordinate, as appropriate, with key staff in State VR agencies, such as the State Coordinators for the Deaf; State and local partner programs; consumer organizations and associations, including those that represent individuals who are deaf, hard of hearing, deaf-blind, and late deafened; and relevant RSA partner organizations and associations.

(d) In the narrative section of the application under “Quality of the Evaluation Plan,” include an evaluation plan for the project. To address this requirement, the evaluation plan must describe—

(1) An approach, using pre- and post-assessments, for assessing the level of knowledge, skills, and competencies gained among participants;

(2) An approach for assessing the application of knowledge, skills, and competencies after completion; and

(3) An approach for incorporating oral and written feedback from trainers, from deaf consumers, and any feedback from mentoring sessions conducted with the participants;

(4) Evaluation methodologies, including instruments, data collection methods, and analyses that will be used to evaluate the project;

(5) Measures of progress in implementation, including the extent to which the project's activities and products have reached their target populations; intended outcomes or results of the project's activities in order to evaluate those activities; and how well the goals and objectives of the proposed project, as described in its logic model,⁴ have been met;

⁴ A logic model communicates how the project will achieve its intended outcomes and provides a framework for both the formative and summative evaluations of the project.

(6) How the evaluation plan will be implemented and revised, as needed, during the project. The applicant must designate at least one individual with sufficient dedicated time, experience in evaluation, and knowledge of the project to coordinate the design and implementation of the evaluation. For example, coordination with any identified partners in the application and RSA to make revisions post award to the logic model in order to reflect any changes or clarifications to the model and to the evaluation design and instrumentation with the logic model (e.g., designing instruments and developing quantitative or qualitative data collections that permit collecting of progress data and assessing project outcomes);

(7) The standards and targets for determining effectiveness of the project;

(8) How evaluation results will be used to examine the effectiveness of implementation and the progress toward achieving the intended outcomes; and

(9) How the methods of evaluation will produce quantitative and qualitative data that demonstrate whether the project activities achieved their intended outcomes.

(e) Demonstrate, in the narrative section of the application under “Adequacy of Project Resources,” how—

(1) The proposed project will encourage applications for employment with the project from persons who are members of groups that have historically been underrepresented based on race, color, national origin, gender, age, or disability;

(2) The proposed project personnel, consultants, and subcontractors have the qualifications and experience to provide training to working interpreters and to achieve the project's intended outcomes;

(3) The applicant and any identified partners have adequate resources to carry out the proposed activities; and

(4) The proposed costs are reasonable in relation to the anticipated results and benefits;

(f) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks.

(2) Key project personnel and any consultants and subcontractors will be allocated to the project and how these allocations are appropriate and adequate to achieve the project's intended outcomes, including an assurance that such personnel will have adequate availability to ensure timely communications with stakeholders and RSA;

(3) The proposed management plan will ensure that the products and services provided are of high quality; and

(4) The proposed project will benefit from a diversity of perspectives, especially relevant partners, groups, and organizations described throughout this notice, in its development and operation.

(g) Address the following application requirements. The applicant must—

(1) Include, in Appendix A, a logic model that depicts, at a minimum, the goals, activities, outputs, and intended outcomes of the proposed project;

(2) Include, in Appendix A, person-loading charts and timelines, as applicable, to illustrate the management plan described in the narrative; and

(3) Include, in the budget, attendance at a one-day intensive review meeting in Washington, DC, during the third quarter of the third year of the project period.

Specialty Areas

With this proposed priority, the Secretary intends to fund four national projects in the following specialty areas: (1) Interpreting for consumers with dysfluent language competencies (e.g., individuals who use idiosyncratic signs or display limited first language competency in either spoken or sign language, due to delayed acquisition of the first language); (2) trilingual interpreting (e.g., language fluency in first, second, and third languages with one of the three languages being ASL); and (3) field-initiated topics. Applicants must identify the specific focus area (1, 2, or 3) under which they are applying as part of the competition title on the application cover sheet (SF form 424, line 4). Applicants may not submit the same proposal under more than one specialty area.

Specialty Area 1: Interpreting for Consumers With Dysfluent Language Competencies

Interpreting for consumers with dysfluent language competencies include: (1) Those with limited, idiosyncratic, or differing levels of first and second language fluency in English and ASL); (2) those who have families using non-English spoken languages at home and have limited or no fluency in English and ASL; (3) those with cognitive and physical disabilities that impact linguistic competencies; and (4) those who are deaf-blind with varying levels of vision and hearing functions.

Specialty Area 2: Trilingual Interpreting

Trilingual interpreting is interpreting between three different languages; that is, two spoken languages such as English and Spanish, and ASL. This requires a working interpreter to be competent in three different languages and seamlessly facilitate communication between those languages in real time. RSA is seeking to fund similar projects in trilingual interpreting that includes languages that may be spoken in the United States.

During the 2010-2016 grant cycle, RSA funded the development of trilingual interpreting specialized training between English and Spanish, and ASL. Therefore, proposals focusing on English and Spanish, and ASL are not eligible under this proposed priority.

Specialty Area 3: Field-Initiated Topics

Field-initiated topics that address the needs of working interpreters to acquire specialized knowledge and competencies. These topics may address new specialty areas that require development of training modules of sufficient intensity, duration, and scope of sequence to warrant funding of an entire grant. Proposed topics may also replace training in an established specialty area that is no longer relevant. For instance, applicants may propose new or updated training, such as interpreting in a VR setting given reauthorization of the Rehabilitation Act, as amended, by WIOA. Applicants may also propose a new subset of training in an established specialty area. For instance, in health care interpreting, mental health might be one permissible subset of training because it has its own unique challenges and complexities in terms of setting and deaf consumer needs. In addition, applicants must provide sufficient evidence to demonstrate the need for the proposed new specialty training project or to show that an existing specialized training project is not adequately meeting the training needs of interpreters in order to better meet the linguistic and communication needs of Deaf consumers.

Field-initiated topics not eligible under this proposed priority include topics focusing on educational interpreting for pre-k-12 students. In addition, applicants proposing to continue or expand existing training developed in prior grant cycles for deaf-blind interpreting, health care interpreting, legal interpreting, trilingual interpreting in English/Spanish/ASL, deaf self-advocacy training, interpreting in a VR setting, interpreting provided by Deaf Interpreters, and video remote interpreting and video relay interpreting) will not be considered eligible under this priority.

Note: The Secretary intends to fund a total of four projects in FY 2016 that have been awarded at least eighty-percent of the maximum possible points, including at least one project from each of the three specialty areas. As a result, the Secretary may fund applications out of rank order.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority: We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this proposed regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this proposed regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that would maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only on a reasoned determination that its benefits justify its costs. In choosing among alternative regulatory approaches, we selected those approaches that would maximize net benefits. Based on the analysis that follows, the Department believes that this regulatory action is consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

Through this priority, working interpreters will receive training in a specialty area in order to better meet the communication needs of individuals who are deaf, including consumers of VR. The training ultimately will improve the quality of VR services and the competitive integrated employment outcomes achieved by individuals with disabilities. This priority would promote the efficient and effective use of Federal funds.

Paperwork Reduction Act of 1995

As part of its continuing effort to reduce paperwork and respondent burden, the Department provides the general public and Federal agencies with an opportunity to comment on proposed and continuing collections of information in accordance with the Paperwork Reduction Act of 1995 (PRA) (44 U.S.C. 3506(c)(2)(A)). This helps ensure that: The public understands the Department's collection instructions, respondents can provide the requested data in the desired format, reporting burden (time and financial resources) is minimized, collection instruments are clearly understood, and the Department can properly assess the impact of collection requirements on respondents.

This proposed priority contains information collection requirements that are approved by OMB under the National Interpreter Education program 1820-0018; this proposed regulation does not affect the currently approved data collection.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site. You may also access documents of the Department published in the Federal Register by using the article search feature at: www.federalregister.gov. Specifically, through the advanced search feature at this site, you can limit your search to documents published by the Department.

Dated: May 3, 2016.
Michael K. Yudin,
Assistant Secretary for Special Education and Rehabilitative Services.

[FR Doc. 2016-10718 Filed 5-5-16; 8:45 am]

BILLING CODE 4000-01-P